DEPARTMENT OF STATE

[Delegation of Authority No. 388]

Delegation to Thomas A. Shannon of Authorities Normally Vested in the Under Secretary of State for Political Affairs

By virtue of the authority vested in the Secretary of State by the laws of the United States, including Section 1 of the State Department Basic Authorities Act, as amended (22 U.S.C. 2651a), I hereby delegate to Thomas A. Shannon the authorities and functions of the Under Secretary of State for Political Affairs; as well as, to the extent authorized by law, all authorities and functions that have been or may be delegated to the Under Secretary of State for Political Affairs.

This delegation of authority does not revoke, supersede, or affect any other delegation of authority. Any authority covered by this delegation may also be exercised by the Secretary, the Deputy Secretary, or the Deputy Secretary for Management and Resources.

This delegation shall expire upon the appointment and entry upon duty of an individual to replace Wendy R. Sherman as the Under Secretary of State for Political Affairs.

This delegation of authority shall be published in the Federal Register.

Dated: October 14, 2015.
John F. Kerry,
Secretary of State.

[FR Doc. 2015-27152 Filed 10-23-15; 8:45 am]

BILLING CODE 4710-10-P